Executive Order 13736 of August 12, 2016

Providing an Order of Succession Within the Department of Veterans Affairs

By the authority vested in me as President by the Constitution and the laws of the United States of America, including the Federal Vacancies Reform Act of 1998, as amended, 5 U.S.C. 3345 et seq. (the “Act”), it is hereby ordered that:

Section 1. Order of Succession. Subject to the provisions of section 2 of this order and to the limitations set forth in the Act, the following officials of the Department of Veterans Affairs, in the order listed, shall act as Secretary of Veterans Affairs (Secretary) and perform the functions and duties of the office of the Secretary during any period in which both the Secretary and the Deputy Secretary of Veterans Affairs have died, resigned, or otherwise become unable to perform the functions and duties of the office of Secretary:

(a) Under Secretary for Health;

(b) Under Secretary for Benefits;

(c) Under Secretary for Memorial Affairs;

(d) Chief of Staff;

(e) General Counsel and Assistant Secretaries, with precedence among them in the order, by date, of their appointments and, if on the same date, in the order in which they have taken the oath of office;

(f) Chairman, Board of Veterans' Appeals;

(g) Network Director, Veterans Integrated Service Network 8;

(h) Network Director, Veterans Integrated Service Network 7;

(i) Director, Southern Area, Veterans Benefits Administration; and

(j) Network Director, Veterans Integrated Service Network 19.

Sec. 2. Exceptions. (a) No individual who is serving in an office listed in section 1(a)-(j) of this order in an acting capacity shall, by virtue of so serving, act as Secretary pursuant to this order.

(b) No individual who is serving in an office listed in section 1(a)-(j) of this order shall act as Secretary unless that individual is otherwise eligible to so serve under the Act.

(c) Notwithstanding the provisions of this order, the President retains discretion, to the extent permitted by law, to depart from this order in designating an acting Secretary.

Sec. 3. Revocations. (a) Executive Order 13247 of December 18, 2001, is hereby revoked;

(b) Section 4(g) of Executive Order 13261 of March 19, 2002, is hereby revoked;

(c) Presidential Memorandum of March 19, 2002 (Designation of Officers of the Department of Veterans Affairs), is hereby revoked; and

(d) Presidential Memorandum of February 12, 2003 (Designation of Officers of the Department of Veterans Affairs to Act as Secretary of Veterans Affairs), is hereby revoked.

Sec. 4. Judicial Review. This order is not intended to, and does not, create any right or benefit, substantive or procedural, enforceable at law or in equity by any party against the United States, its departments, agencies, or entities, its officers, employees, or agents, or any other person.

THE WHITE HOUSE,

August 12, 2016.

[FR Doc. 2016-19724

Filed 8-16-16; 8:45 am]

Billing code 3295-F6-P